DEPARTMENT OF TRANSPORTATION

Federal Motor Carrier Safety Administration

[Docket No. FMCSA-2012-0339]

Qualification of Drivers; Exemption Applications; Vision

AGENCY: Federal Motor Carrier Safety Administration (FMCSA), DOT.

ACTION: Notice of applications for exemptions; request for comments.

SUMMARY: FMCSA announces receipt of applications from 14 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before February 8, 2013.

ADDRESSES: You may submit comments bearing the Federal Docket Management System (FDMS) Docket No. FMCSA-2012-0339 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on December 29, 2010 (75 FR 82132) at http://www.gpo.gov/fdsys/pkg/FR-2010-12-29/pdf/2010-32876.pdf.

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 14 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Benny L. Bailey

Mr. Bailey, age 56, has had central scotoma in his right eye due to a traumatic incident 20 years ago. The best corrected visual acuity in his right eye is 20/400, and in his left eye, 20/25. Following an examination in 2012, his optometrist noted, “In my medical opinion I believe that Mr. Bailey has sufficient vision to perform the driving tasks required to operate a commercial vehicle.” Mr. Bailey reported that he has driven straight trucks for 10 years, accumulating 852,000 miles. He holds a Class B Commercial Driver's License (CDL) from Tennessee. His driving record for the last 3 years shows no crashes and no convictions for moving violations in a CMV.

Bobby R. Carter, Sr.

Mr. Carter, 65, has had a branch retinal vein occlusion in his left eye since 1995. The visual acuity in his right eye is 20/20, and in his left eye, hand motion. Following an examination in 2012, his optometrist noted, “He has the ability to perform commercial driving tasks as he has been doing for many years.” Mr. Carter reported that he has driven tractor-trailer combinations for 20 years, accumulating 1.5 million miles. He holds a Class C CDL from Michigan. His driving record for the last 3 years shows one crash, for which he was not cited, and no convictions for moving violations in a CMV.

Brent Coleman

Mr. Coleman, 50, has had amblyopia in his left eye since childhood. The visual acuity in his right eye is 20/20, and in his left eye, 20/40. Following an examination in 2012, his ophthalmologist noted, “If his perimetry tests are normal and he is not required to have binocular vision, then he has sufficient vision to perform the driving tasks required to operate a commercial vehicle.” Mr. Coleman reported that he has driven tractor-trailer combinations for 12.5 years, accumulating 1.5 million miles. He holds a Class A CDL from Texas. His driving record for the last 3 years shows no crashes and no convictions for moving violations in a CMV.

Adan Cortes-Juarez

Mr. Cortes-Juarez, 54, has had hyperopia with amblyopia in his left eye since childhood. The best corrected visual acuity in his right eye is 20/25, and in his left eye, 20/60. Following an examination in 2012, his ophthalmologist noted, “I certify that Adan Cortes-Juarez can operate a commercial vehicle safely on the basis of his visual acuity.” Mr. Cortes-Juarez reported that he has driven tractor-trailer combinations for 31 years, accumulating 1.86 million miles. He holds a Class A CDL from Washington. His driving record for the last 3 years shows no crashes and no convictions for moving violations in a CMV.

Lisa M. Durey

Ms. Durey, 44, has had amblyopia in her left eye since childhood. The best corrected visual acuity in her right eye is 20/20, and in her left eye, 20/80. Following an examination in 2012, her optometrist noted, “In my opinion, Lisa has sufficient vision to perform the driving tasks required to operate a commercial vehicle.” Ms. Durey reported that she has driven straight trucks for 12 years, accumulating 200,000 miles, and tractor-trailer combinations for 3 months, accumulating 300 miles. She holds a Class B CDL from Illinois. Her driving record for the last 3 years shows no crashes and no convictions for moving violations in a CMV.

David P. Elliott

Mr. Elliott, 59, has had amblyopia in his left eye since birth. The best corrected visual acuity in his right eye is 20/20, and in his left eye, 20/70. Following an examination in 2012, his optometrist noted, “It is in my medical opinion that there is sufficient vision to operate a commercial vehicle.” Mr. Elliott reported that he has driven straight trucks for 20 years, accumulating 1 million miles, and tractor-trailer combinations for 10 years, accumulating 1.25 million miles. He holds a Class B CDL from Ohio. His driving record for the last 3 years shows no crashes and no convictions for moving violations in a CMV.

Matthew T. Eggers

Mr. Eggers, 44, has had amblyopia in his right eye since birth. The best corrected visual acuity in his right eye is 20/200, and in his left eye, 20/20. Following an examination in 2012, his ophthalmologist noted, “The patient's visual function should be adequate to operate a commercial vehicle.” Mr. Eggers reported that he has driven straight trucks for 13 years, accumulating 260,000 miles, and tractor-trailer combinations for 12 years, accumulating 24,000 miles. He holds a Class A CDL from Iowa. His driving record for the last 3 years shows no crashes and no convictions for moving violations in a CMV.

Jerry Hall

Mr. Hall, 51, has had amblyopia in his left eye since childhood. The best corrected visual acuity in his right eye is 20/20, and in his left eye, 20/50. Following an examination in 2012, his ophthalmologist noted, “Mr. Hall's diagnosis is amblyopia OS which is stable and non-progressive. With these findings he should be able to operate a motor vehicle commercially.” Mr. Hall reported that he has driven straight trucks for 7 years, accumulating 84,000 miles, and tractor-trailer combinations for 6 months, accumulating 8,000 miles. He holds a Class D CDL from Kentucky. His driving record for the last 3 years shows no crashes and no convictions for moving violations in a CMV.

Jerry L. Parker

Mr. Parker, 57, has had a mature cataract in his right eye due to a traumatic incident during childhood. The best corrected visual acuity in his right eye is hand motion, and in his left eye, 20/20. Following an examination in 2012, his optometrist noted, “Since he received this injury as a child, he has adapted well with head movements to safely drive a commercial vehicle.” Mr. Parker reported that he has driven straight trucks for 30 years, accumulating 375,000 miles. He holds an operator's license from New Mexico. His driving record for the last 3 years shows no crashes and no convictions for moving violations in a CMV.

Colin Passmore

Mr. Passmore, 43, has had complete loss of vision in his left eye due to a traumatic incident at age 15. The best corrected visual acuity in his right eye is 20/20. Following an examination in 2012, his optometrist noted, “In my professional opinion, Colin can safely operate a commercial vehicle. His acuity and visual field are excellent and with the duration of the deficiency he is fully adapted.” Mr. Passmore reported that he has driven straight trucks for 4 years, accumulating 200,000 miles. He holds a Class B CDL from Minnesota. His driving record for the last 3 years shows no crashes and no convictions for moving violations in a CMV.

Dennis W. Pevey

Mr. Pevey, 56, has had amblyopia in his left eye since childhood. The best corrected visual acuity in his right eye is 20/40, and in his left eye, 20/60. Following an examination in 2012, his ophthalmologist noted, “In my option, this person has sufficient vision to operate a commercial motor vehicle safely.” Mr. Pevey reported that he has driven tractor-trailer combinations for 29 years, accumulating 2.32 million miles. He holds a Class A CDL from Georgia. His driving record for the last 3 years shows no crashes and one conviction for speeding in a CMV; he exceeded the speed limit by 10 mph.

Charles D. Reddick

Mr. Reddick, 32, has had amblyopia in his left eye since birth. The visual acuity in his right eye is 20/20, and in his left eye, 20/70. Following an examination in 2012, his optometrist noted, “It is my professional opinion that Mr. Charles Reddick has sufficient vision to perform the driving of a commercial vehicle.” Mr. Reddick reported that he has driven tractor-trailer combinations for 7 years, accumulating 875,000 miles. He holds a Class A CDL from Georgia. His driving record for the last 3 years shows no crashes and no convictions for moving violations in a CMV.

Frank Santak

Mr. Santak, 56, has had refractive amblyopia in his right eye since childhood. The best corrected visual acuity in his right eye is 20/50, and in his left eye, 20/20. Following an examination in 2012, his optometrist noted, “In my opinion, I believe that Mr. Santak has sufficient vision to perform the driving tasks required to operate a commercial vehicle at this time.” Mr. Santak reported that he has driven straight trucks for 27 years, accumulating 202,500 miles. He holds a Class C CDL from Delaware. His driving record for the last 3 years shows no crashes and no convictions for moving violations in a CMV.

Curtis E. Way

Mr. Way, 53, has had complete loss of vision in his left eye due to complications during surgery eight years ago. The best corrected visual acuity in his right eye is 20/20. Following an examination in 2012, his optometrist noted, “He has sufficient vision to perform the driving tasks required to operate a commercial vehicle.” Mr. Way reported that he has driven straight trucks for 15 years, accumulating 18,000 miles, and tractor-trailer combinations for 10 years, accumulating 1.4 million miles. He holds a Class A CDL from Texas. His driving record for the last 3 years shows no crashes and no convictions for moving violations in a CMV.

Request for Comments

In accordance with 49 U.S.C. 31136(e) and 31315, FMCSA requests public comment from all interested persons on the exemption petitions described in this notice. The Agency will consider all comments received before the close of business February 8, 2013. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: December 28, 2012.
Larry W. Minor,
Associate Administrator for Policy.

[FR Doc. 2013-00231 Filed 1-8-13; 8:45 am]

BILLING CODE 4910-EX-P